DEPARTMENT OF AGRICULTURE

Forest Service

Frenchtown Face Ecosystem Restoration Project; Ninemile Ranger District, Lolo National Forest, Missoula County, MT

AGENCY: Forest Service, USDA.

ACTION: Notice of intent to prepare a supplemental environmental impact statement.

SUMMARY: The Forest Service will prepare a supplemental environmental impact statement (SEIS) for the Frenchtown Face Ecosystem Restoration Project. The project includes timber harvest, prescribed burning, road management changes, weed spraying, and stream channel restoration. The Notice of Availability of the Draft EIS was published in the Federal Register on July 23, 2004 (Volume 69, Number 141, Page 43981), and the notice of the Final EIS on March 24, 2006. The Record of Decision on this project was administratively appealed to the Regional Forester per 36 CFR part 215. The Regional Forester reversed the decision on June 26, 2006, citing an inadequate soils analysis. A SEIS is being prepared to further address soils issues for this project.

DATES: Scoping is not required for supplements to environmental impact statements (40 CFR 1502.9(4)). There was extensive public involvement in the development of the proposed action, the Draft EIS, and the Final EIS. The comment period for the Draft SEIS will be 45 days from the date the EPA publishes the notice of availability in the Federal Register.

ADDRESSES: The line officer responsible for this analysis is: Garry Edson, District Ranger, ninemile Ranger District, 20325 Remount Road, Huson, Montana 59846.

FOR FURTHER INFORMATION CONTACT: Brian Riggers, EIS Team Leader, Building 24, Fort Missoula, Missoula, Montana 59804, (406) 329-3793 or e-mail briggers@fs.fed.us.

SUPPLEMENTARY INFORMATION: The Frenchtown Face Ecosystem Restoration project area includes 44,000 acres of National Forest land approximately 25 miles northwest of Missoula, Montana. Lands affected are within the Mill, Roman, Houle, Sixmile, and lower Ninemile Creek (including Butler, Kennedy, and McCormick Creeks) watersheds. The project area is bounded by the Clark Fork River and Ninemile Creek to the southwest, and the Ninemile/Flathead Reservation divide to the northeast.

The purpose and need for this project is to:

(1) Reduce the potential for high severity fires within the low elevation ponderosa pine and Douglas-fir forests, while also improving fire protection on private property with all ownerships.

(2) Maintain/improve forest health and reduce the risk of damage from insects and disease while maintaining a natural appearing landscape.

(3) Reduce the expansion of new or less extensive weed species, and control existing weeds, under a comprehensive block planning effort.

(4) Reduce roads while maintaining reasonable access recreation, but limiting further recreational development.

(5) Maintain/improve water quality and fish habitat throughout the landscape.

(6) Maintain/improve wildlife security and habitat.

(7) Protect and interpret historic sites.

The Frenchtown Face Ecosystem Restoration Record of Decision was released at the same time as the Final EIS and publication of the legal notice in the newspaper of record (March 24, 2006). The Record of Decision authorizing the following:

(1) Timber harvest on approximately 3,621 acres, to be followed by underburning on 3,598 of those acres,

(2) Prescribed burning of approximately 6,488 additional acres,

(3) Constructing 3.5 miles of temporary road and reconstructing 57.4 miles of road (42.4 miles to incorporate BMPs (Best Management Practices) and 15.0 miles to temporarily access timber),

(4) Decommissioning 114.7 miles of road (75.9 miles already closed year-long) and removing and/or replacing 19 culverts,

(5) Spraying noxious weeds on approximately 4,600 acres (1,750 acres aerial and 2,850 acres ground-based),

(6) Constructing two new OHV trailheads and ½ mile of new trail to connect existing OHV routes between Mill and Edith Creeks; constructing ¼ mile of mountain bike trail to connect existing trails near Kreis Pond and Camp Menard; constructing 1.5 miles of horse trail to connect the Stony and Butler trailheads; constructing new parking areas at McCormick and Kennedy Ridge trailheads; upgrading 8 existing recreational facilities (Kreis Pond Campground, Grand Menard Picnic Area, CCC Camp, Ninemile Remount Depot, and Stoney Creek, Ch-paa-qn, Kennedy Ridge, and McCormick Trailheads); and establishing an OHV education program in local area schools,

(7) Improving fish habitat by rehabilitating the placer mining site on ½ mile of Little McCormick Creek, and

(8) Keeping open the Houle Creek and CCC gravel pits and developing the Sixmile rip-rap source.

The SEIS is intended to provide additional analysis on the existing condition and potential effects of proposed treatment activities on soils, along with unit-specific mitigation requirements to protect and improve soils conditions in these units. In addition, we are taking this opportunity to provide more information wildlife issues and cumulative effects. We expect to have a draft SEIS available for public review and comment in February, 2007, and a Final SEIS in April, 2007. The comment period for the Draft SEIS will be 45 days from the date the EPA publishes the notice of availability in the Federal Register.

The Forest Service believes it is important at this early stage to give reviewers notice of several court rulings related to public participation in the environmental review process. First, reviewers of draft supplemental environmental impact statements must structure their participation in the environmental review of the proposal so that it is meaningful and alerts an agency to the reviewer's position and contentions. Vermont Yankee Nuclear Power Corp. v. NRDC, 435 U.S. 519, 533 (1978). Also, environmental objections that could be raised at the Draft SEIS stage but that are not raised until after completion of the Final SEIS (Final Supplemental Environmental Impact Statement) may be waived or dismissed by the courts. Wisconsin Heritages, Inc. v. Harris, 490 F. Sup. 1334, 1338 (E.D. Wis. 1980). Because of these court rulings, it is very important that those interested in this proposed action participate by the close of the 45 day comment period so that substantive comments and objections are made available to the Forest Service at a time when it can meaningfully consider and respond to them in the Final SEIS. Reviewers may wish to refer to the Council on Environmental Quality regulations for implementing the procedural provisions of the National Environmental Policy Act at 40 CFR 1503.3 in addressing these points.

Responsible Official

Deborah L. R. Austin, Forest Supervisor of the Lolo National Forest, Bldg. 24, Fort Missoula, Missoula, Montana 59804, is the Responsible Official for this project. The Record of Decision will identify the land management activities to be implemented in the project area. The Forest Supervisor will make a decision on this project after considering comments and responses, environmental consequences discussed in the Final SEIS, and applicable laws, regulations, and policies. The decision and supporting reasons will be documented in a Record of Decision.

Dated: February 7, 2007.
Deborah L. R. Austin,
Forest Supervisor, Lolo National Forest.

[FR Doc. 07-672 Filed 2-13-07; 8:45 am]

BILLING CODE 3410-11-M